FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 010050-017.

Title: U.S. Flag Discussion Agreement.

Parties: American President Lines, Ltd.; APL Co. PTE Ltd.; A.P. Moller-Maersk A/S; CP Ships USA, LLC; and Farrell Lines, Inc.

Filing Party: Wayne R. Rohde, Esq.; Sher & Blackwell LLP; 1850 M Street, NW.; Suite 900; Washington, DC 20036.

Synopsis: The amendment deletes P&O Nedlloyd Limited as a party to the agreement and changes Maersk's trade name.

Agreement No.: 010051-036.

Title: Mediterranean Space Charter Agreement.

Parties: Farrell Lines, Inc.; CP Ships USA LLC; A.P. Moller-Maersk A/S; Mediterranean Shipping Company, S.A.; P&O Nedlloyd Limited; P&O Nedlloyd B.V.; Hapag-Lloyd Container Linie GmbH; and Zim Integrated Shipping Services, Ltd.

Filing Party: Wayne R. Rohde, Esq.; Sher & Blackwell LLP; 1850 M Street, NW.; Suite 900; Washington, DC 20036.

Synopsis: The amendment deletes the P&O Nedlloyd companies as parties to the agreement and changes Maersk's trade name.

Agreement No.: 011268-020.

Title: New Zealand/United States Discussion Agreement.

Parties: New Zealand/United States Container Lines Association; Hamburg-Süd; Australia-New Zealand Direct Line; FESCO Ocean Management Ltd.; A.P. Moller-Maersk A/S; and CP Ships USA, LLC.

Filing Party: Wayne R. Rohde, Esq.; Sher & Blackwell LLP; 1850 M Street, NW., Suite 900; Washington, DC 20036.

Synopsis: The amendment deletes P&O Nedlloyd Limited as a party to the agreement and changes Maersk's trade name.

Agreement No.: 011275-019.

Title: Australia/United States Discussion Agreement.

Parties: A.P. Moller-Maersk A/S; Australia-New Zealand Direct Line; FESCO Ocean Management Inc.; Hamburg-Süd; NYKLauritzenCool AB; CP Ships USA, LLC; Safmarine Container Lines NV; and Seatrade Group N.V.

Filing Party: Wayne R. Rohde, Esq.; Sher & Blackwell LLP; 1850 M Street, NW.; Suite 900; Washington, DC 20036.

Synopsis: The amendment changes Maersk's trade name and deletes P&O Nedlloyd Limited as a party to the agreement.

Agreement No.: 011279-024.

Title: Latin America Agreement.

Parties: Central America Discussion Agreement; Hispaniola Discussion Agreement; Caribbean Shipowners Association; Venezuelan Discussion Agreement; ABC Discussion Agreement; West Coast of South America Discussion Agreement; Inland Shipping Services Association; Montemar Maritima S.A.; and Zim Integrated Shipping Services, Ltd.

Filing Party: Wayne R. Rohde, Esq.; Sher & Blackwell LLP; 1850 M Street, NW.; Suite 900; Washington, DC 20036.

Synopsis: The amendment updates the membership of various agreement parties.

Agreement No.: 011290-036.

Title: International Vessel Operators Hazardous Material Association Agreement.

Parties: Aliança Navegacao e Logistica Ltda.; APL Co. PTE Ltd.; Atlantic Container Line AB; Australia-New Zealand Direct Line; Bermuda Container Line; Canada Maritime Agencies Ltd.; China Shipping Container Lines Co., Ltd.; CMA CGM, S.A.; Compania Latino Americana de Navegacion SA; Contship Containerlines; COSCO Container Lines, Inc.; CP Ships USA LLC; Crowley Maritime Corporation; Evergreen Marine Corp. (Taiwan) Ltd.; Hamburg-Südamerikanische Dampfschifffahrts-Gesellschaft KG; Hanjin Shipping Co., Ltd.; Hapag-Lloyd Container Linie GmbH; Horizon Lines, LLC; Hyundai Merchant Marine Co., Ltd.; Independent Container Line Ltd.; Kawasaki Kisen Kaisha Ltd.; Marine Transport Lines, Inc.; Maruba SCA; Mitsui O.S.K. Lines, Ltd.; A.P. Moller-Maersk A/S; National Shipping Co. of Saudi Arabia; Nippon Yusen Kaisha Line; Orient Overseas Container Line Limited; P&O Nedlloyd B.V.; P&O Nedlloyd Limited; Safmarine Container Lines; Seaboard Marine Ltd.; Senator Lines GmbH; Tropical Shipping & Construction Co., Ltd.; United Arab Shipping Co. S.A.G.; Yang Ming Marine Transport Corp.; and Zim Integrated Shipping Services, Ltd.

Filing Party: Wayne R. Rohde, Esq.; Sher & Blackwell LLP; 1850 M Street, NW.; Suite 900; Washington, DC 20036.

Synopsis: The amendment adds Matson Navigation Company as a party to the agreement, deletes the P&O Nedlloyd companies as parties to the agreement, and changes Maersk's trade name.

Agreement No.: 011346-016.

Title: Israel Trade Conference Agreement.

Parties: A.P. Moller-Maersk A/S; Farrell Lines, Inc.; P&O Nedlloyd Limited; and Zim Integrated Shipping Services, Ltd.

Filing Party: Wayne R. Rohde, Esq.; Sher & Blackwell LLP; 1850 M Street, NW.; Suite 900; Washington, DC 20036.

Synopsis: The amendment reflects P&O Nedlloyd's resignation effective April 11, 2006, and changes Maersk's trade name.

Agreement No.: 011375-066.

Title: Trans-Atlantic Conference Agreement.

Parties: Atlantic Container Line AB; A.P. Moller-Maersk A/S; Mediterranean Shipping Company, S.A.; Nippon Yusen Kaisha; and Orient Overseas Container Line Limited.

Filing Party: Wayne R. Rohde, Esq.; Sher & Blackwell LLP; 1850 M Street, NW.; Suite 900; Washington, DC 20036.

Synopsis: The amendment deletes P&O Nedlloyd Limited as a party to the agreement effective February 17, 2006, and changes Maersk's trade name.

Agreement No.: 011405-018.

Title: Ocean Carrier Working Group Agreement.

Parties: Latin America Agreement; Israel Trade Conference; Trans-Atlantic Conference Agreement; Transpacific Stabilization Agreement; Middle East Indian Subcontinent Discussion Agreement; United States Australasia Discussion Agreement; United States/ South Europe Conference; Westbound Transpacific Stabilization Agreement; A.P. Moller-Maersk A/S; Contship Containerlines; Evergreen Marine Corporation (Taiwan) Ltd.; King Ocean Service de Venezuela, S.A.; Star Shipping A/S; Tropical Shipping & Construction Company, Limited; Wallenius Wilhelmsen Logistics AS; Zim Integrated Shipping Services, Ltd.; and Hapag-Lloyd Container Linie GmbH.

Filing Party: Wayne R. Rohde, Esq.; Sher & Blackwell LLP; 1850 M Street, NW.; Suite 900; Washington, DC 20036.

Synopsis: The amendment updates the membership of various agreement parties and the names of various carrier parties.

Agreement No.: 011547-020.

Title: Eastern Mediterranean Discussion Agreement.

Parties: Farrell Lines, Inc.; COSCO Container Lines Co. Ltd.; China Shipping Container Lines Co., Ltd.; A.P. Moller-Maersk A/S; Mediterranean Shipping Company, S.A.; Turkon Container Transportation & Shipping, Inc.; and Zim Integrated Shipping Services, Ltd.

Filing Party: Wayne R. Rohde, Esq.; Sher & Blackwell LLP; 1850 M Street, NW.; Suite 900; Washington, DC 20036.

Synopsis: The amendment removes P&O Nedlloyd Limited as a party effective March 12, 2006.

Agreement No.: 011654-014.

Title: Middle East Indian Subcontinent Discussion Agreement.

Parties: American President Lines; A.P. Moller-Maersk A/S; China Shipping Navigation Co., Ltd. d/b/a Indotrans; CMA CGM S.A.; Contship Containerlines, a division of CP Ships (UK) Ltd.; MacAndrews & Company Limited; P&O Nedlloyd Limited; The National Shipping Company of Saudi Arabia; and United Arab Shipping Company (S.A.G.).

Filing Party: Wayne R. Rohde, Esq.; Sher & Blackwell LLP; 1850 M Street, NW.; Suite 900; Washington, DC 20036.

Synopsis: The amendment deletes American President Lines and P&O Nedlloyd Limited as parties to the agreement and changes Maersk's trade name.

Agreement No.: 011904-001.

Title: Atlantic Brazil Express Agreement.

Parties: CMA CGM, S.A.; P&O Nedlloyd Limited; and P&O Nedlloyd B.V.

Filing Party: Neal M. Mayer, Esq.; Hoppel, Mayer & Coleman; 1050 Connecticut Avenue, NW.; 10th Floor; Washington, DC 20036.

Synopsis: The amendment deletes the P&O Nedlloyd companies as parties to the agreement and adds A.P. Moller-Maersk A/S, trading as Maersk Line, as a party.

Agreement No.: 011907-002.

Title: ABX/APL Space Charter Agreement.

Parties: CMA CGM S.A.; APL Co. Pte Ltd.; P&O Nedlloyd Limited; and P&O Nedlloyd B.V.

Filing Party: Neal M. Mayer, Esq.; Hoppel, Mayer & Coleman; 1050 Connecticut Avenue, NW.; 10th Floor; Washington, DC 20036.

Synopsis: The amendment deletes the P&O Nedlloyd companies as parties to the agreement and adds A.P. Moller-Maersk A/S, trading as Maersk Line, as a party.

Agreement No.: 011917-001.

Title: Maersk Line/MOL Space Charter Agreement.

Parties: A.P. Moller Maersk A.S. and Mitsui O.S.K. Lines, Ltd.

Filing Party: Neal M. Mayer, Esq.; Hoppel, Mayer & Coleman; 1050 Connecticut Avenue, NW.; Washington, DC 20036.

Synopsis: The amendment removes P&O Nedlloyd B.V. and P&O Nedlloyd Limited as parties, adds A.P. Moller Maersk A/S as a party, and renames the agreement as the Maersk Line/MOL Space Charter Agreement.

Agreement No.: 011941.

Title: CMA CGM/LT/GSL Amerigo Express 2 MUS Cross Space Charter, Sailing and Cooperative Working Agreement.

Parties: CMA CGM, S.A.; Lloyd Triestino di Navigazione S.p.A.; and Gold Star Line Ltd.

Filing Party: Wayne R. Rohde, Esq.; Sher & Blackwell LLP; 1850 M Street, NW.; Suite 900; Washington, DC 20036.

Synopsis: The agreement authorizes the parties to share vessel space in the trade between the U.S. Atlantic Coast and Italy, France, Spain, Portugal, Malta, and Turkey.

Agreement No.: 011942.

Title: CMA-CGM/CSCL Cross Space Charter, Sailing and Cooperative Working Agreement—Far East/US Gulf Loop, PEX2/AAE2 Service.

Parties: CMA-CGM, S.A.; China Shipping Container Lines Co., Ltd.; and China Shipping Container Lines (Hong Kong) Co., Ltd.

Filing Party: Brett M. Esber, Esq.; Blank Rome LLP; Watergate; 600 New Hampshire Ave., NW.; Washington, DC 20037.

Synopsis: The agreement authorizes the parties to share vessel space in a weekly liner service between ports on the U.S. Atlantic and Gulf Coasts and ports in Asia (China, Hong Kong, Taiwan, and Korea), the Caribbean (Jamaica, Mexico), and Central America (Panama) and engage in related cooperative activities.

Agreement No.: 011943.

Title: CMA-CGM/CSCL Cross Space Charter, Sailing and Cooperative Working Agreement—Far East/Pacific North West Loop, ANW/Seattle Bridge Service.

Parties: CMA-CGM, S.A.; and China Shipping Container Lines Co., Ltd.; and China Shipping Container Lines (Hong Kong) Co., Ltd.

Filing Party: Brett M. Esber, Esq.; Blank Rome LLP; Watergate; 600 New Hampshire Ave., NW.; Washington, DC 20037.

Synopsis: The agreement authorizes the parties to share vessel space in a weekly liner service between ports on the U.S. Pacific Coast and ports in Asia (China, Hong Kong, Taiwan, and Korea) and engage in related cooperative activities.

Dated: February 17, 2006.
By order of the Federal Maritime Commission.
Bryant L. VanBrakle,
Secretary.

[FR Doc. E6-2594 Filed 2-22-06; 8:45 am]

BILLING CODE 6730-01-P